ENVIRONMENTAL PROTECTION AGENCY

40 CFR Parts 51, 60, 61, and 63

[EPA-HQ-OAR-2014-0292; FRL-9935-42-OAR]

RIN 2060-AS34

Revisions to Test Methods, Performance Specifications, and Testing Regulations for Air Emission Sources; Extension of Comment Period

AGENCY: Environmental Protection Agency (EPA).

ACTION: Proposed rule; extension of comment period.

SUMMARY: The Environmental Protection Agency (EPA) is extending the comment period for the proposed rule titled, “Revisions to Test Methods, Performance Specifications, and Testing Regulations for Air Emission Sources,” that was published in the Federal Register on September 8, 2015. The 60-day comment period in the proposed rule is scheduled to end on November 9, 2015. The extended comment period will close on December 9, 2015. The EPA recently added a technical justification to the docket for the revision in the proposed rule regarding Subpart JJJJ of Part 60 (Standards of Performance for Stationary Spark Ignition Internal Combustion Engines). We also added background information to support our reasoning for soliciting comment about Method 7E stratification. Therefore, the EPA is extending the comment period to allow the public additional time to submit comments and supporting information on these and other aspects of the proposed rule.

DATES: Comments on the proposed rule published September 8, 2015 (80 FR 54146) must be received on or before December 9, 2015.

ADDRESSES: Comments. Written comments on the proposed rule may be submitted to the EPA electronically, by mail, by facsimile, or through hand delivery/courier. Please refer to the proposal (80 FR 54146) for the addresses and detailed instructions.

Docket. Publicly available documents relevant to this action are available for public inspection either electronically at www.regulations.gov, or in hard copy at the EPA Docket Center, EPA/DC, WJC West Building, Room 3334, 1301 Constitution Ave. NW., Washington, DC. The public reading room is open from 8:30 a.m. to 4:30 p.m. Monday through Friday, excluding legal holidays. A reasonable fee may be charged for copying. The EPA has established the official public docket No. EPA-HQ-OAR-2014-0292.

FOR FURTHER INFORMATION CONTACT: Ms. Lula H. Melton, U.S. EPA, Office of Air Quality Planning and Standards, Air Quality Assessment Division, Measurement Technology Group (Mail Code: E143-02), Research Triangle Park, NC 27711; telephone number: (919) 541-2910; fax number: (919) 541-0516; email address: melton.lula@epa.gov.

SUPPLEMENTARY INFORMATION:

Comment Period

The EPA is extending the public comment period for an additional 30 days to ensure that the public has sufficient time to review and comment on the proposed rule. The public comment period will end on December 9, 2015, instead of November 9, 2015.

List of Subjects

40 CFR Part 51

Environmental protection, Air pollution control, Performance specifications, Test methods and procedures.

40 CFR Part 60

Environmental protection, Air pollution control, Incorporation by reference, Performance specifications, Test methods and procedures.

40 CFR Parts 61 and 63

Environmental protection, Air pollution control, Performance specifications, Test methods and procedures.

Dated: September 28, 2015.
Stephen D. Page,
Director, Office of Air Quality Planning and Standards.

[FR Doc. 2015-25835 Filed 10-8-15; 8:45 am]

BILLING CODE 6560-50-P